FEDERAL MARITIME COMMISSION

Notice of Agreements Filed

The Commission hereby gives notice of the filing of the following agreements under the Shipping Act of 1984. Interested parties may obtain copies of agreements by contacting the Commission's Office of Agreements at 202-523-5793 or via e-ail at tradeanalysis@fmc.gov. Interested parties may submit comments on an agreement to the Secretary, Federal Maritime Commission, Washington, DC 20573, within 10 days of the date this notice appears in the Federal Register.

Agreement No.: 011075-068.

Title: Central America Discussion Agreement.

Parties: APL Co. PTE Ltd.; Crowley Liner Services, Inc.; Dole Ocean Cargo Express; Great White Fleet; King Ocean Services Limited; Trinity Shipping Line, S.A.; and Seaboard Marine, Ltd.

Filing Party: Wayne R. Rohde, Esq.; Sher & Blackwell LLP; 1850 M Street, NW.; Washington, DC 20036.

Synopsis: The amendment deletes A.P. Moller-Maersk A/S as a party to the agreement effective July 24, 2005.

Agreement No.: 011426-036.

Title: West Coast of South America Discussion Agreement.

Parties: APL Co. Pte Ltd.; CMA CGM, S.A.; Compania Chilena de Navigacion Interoceanica, S.A.; Compania Sud Americana de Vapores, S.A.; CP Ships USA, LLC; Frontier Liner Services, Inc.; Hamburg-Süd KG; King Ocean Services Limited, Inc.; Mediterranean Shipping Company, S.A.; Seaboard Marine Ltd.; South Pacific Shipping Company, Ltd. (d/b/a Ecuadorian Line); and Trinity Shipping Line.

Filing Party: Wayne R. Rohde, Esq.; Sher & Blackwell LLP; 1850 M Street, NW.; Suite 900; Washington, DC 20036.

Synopsis: The amendment deletes P&O Nedlloyd B.V./P&O Nedlloyd Limited as a party to the agreement.

Agreement No.: 011918.

Title: Seaboard Marine/Frontier Lines Space Charter Agreement.

Parties: Seaboard Marine, Ltd. and Frontier Liner Services, Inc.

Filing Party: Richard R. Worwetz, III, Pricing Supervisor; Frontier Liner Services; 8600 NW 53rd Terrace, Suite 204; Miami, FL 33166.

Synopsis: The proposed agreement would authorize the parties to share vessel space in the trade between U.S. East Coast ports and ports in Colombia. The parties request expedited review.

By Order of the Federal Maritime Commission.
Dated: July 29, 2005.
Bryant VanBrakle,
Secretary.

[FR Doc. 05-15342 Filed 8-2-05; 8:45 am]

BILLING CODE 6730-01-P